DEPARTMENT OF ENERGY

Federal Energy Regulatory Commission

Combined Notice of Filings

Take notice that the Commission has received the following Natural Gas Pipeline Rate and Refund Report filings:

Filings Instituting Proceedings

Docket Numbers: RP13-1352-000.

Applicants: Gulf South Pipeline Company, LP.

Description: Amendments to Neg Rate Agmts—QEP 37657-37 and 36601-17 to be effective 10/1/2013.

Filed Date: 9/27/13.

Accession Number: 20130927-5043.

Comments Due: 5 p.m. ET 10/9/13.

Docket Numbers: RP13-1353-000.

Applicants: Texas Gas Transmission, LLC.

Description: Superseding Neg Rate Letter Agmts (IG 33275-5 yr and ETC 33285) to be effective 9/1/2013.

Filed Date: 9/27/13.

Accession Number: 20130927-5044.

Comments Due: 5 p.m. ET 10/9/13.

Docket Numbers: RP13-1354-000.

Applicants: Kern River Gas Transmission Company.

Description: 2013 PHMSA to be effective 10/28/2013.

Filed Date: 9/27/13.

Accession Number: 20130927-5072.

Comments Due: 5 p.m. ET 10/9/13.

Docket Numbers: RP13-1355-000.

Applicants: Enable Mississippi River Transmission, L.

Description: 2013 Fuel Adjustment Filing to be effective 11/1/2013.

Filed Date: 9/27/13.

Accession Number: 20130927-5076.

Comments Due: 5 p.m. ET 10/9/13.

Docket Numbers: RP13-1356-000.

Applicants: Wyoming Interstate Company, L.L.C.

Description: Annual Operational Purchases and Sales Report of Wyoming Interstate Company, L.L.C.

Filed Date: 9/27/13.

Accession Number: 20130927-5080.

Comments Due: 5 p.m. ET 10/9/13.

Docket Numbers: RP13-1357-000.

Applicants: Young Gas Storage Company, Ltd.

Description: Annual Operational Purchases and Sales Report of Young Gas Storage Company, Ltd..

Filed Date: 9/27/13.

Accession Number: 20130927-5081.

Comments Due: 5 p.m. ET 10/9/13.

Docket Numbers: RP13-1358-000.

Applicants: Virginia Power Energy Marketing Inc.

Description: Petition of Virginia Power Energy Marketing, Inc. for Temporary Waiver of Capacity Release Regulations and Policies, and Request for Expedited Action.

Filed Date: 9/27/13.

Accession Number: 20130927-5085.

Comments Due: 5 p.m. ET 10/4/13.

Docket Numbers: RP13-1359-000.

Applicants: Transcontinental Gas Pipe Line Company.

Description: Annual Cash-Out Report Period Ending July 31, 2013.

Filed Date: 9/27/13.

Accession Number: 20130927-5094.

Comments Due: 5 p.m. ET 10/9/13.

Docket Numbers: RP13-1360-000.

Applicants: Kinetica Energy Express, LLC.

Description: Docket No. RP13-1116 Sept 27, 2013 Compliance Filing to be effective 9/1/2013.

Filed Date: 9/27/13.

Accession Number: 20130927-5096.

Comments Due: 5 p.m. ET 10/9/13.

Docket Numbers: RP13-1361-000.

Applicants: Guardian Pipeline, L.L.C.

Description: EPC Semi-Annual Adjustment—Fall 2013 to be effective 11/1/2013.

Filed Date: 9/27/13.

Accession Number: 20130927-5097.

Comments Due: 5 p.m. ET 10/9/13.

Docket Numbers: RP13-1362-000.

Applicants: ONEOK, Inc., One Gas, Inc.

Description: Joint Abbreviated Application of ONEOK, Inc. and One Gas, Inc. for Authorization Under Sections 7(B) And 7(C) of the Natural Gas Act, Petition for Temporary Waiver of Capacity Release Rules and Request for Shortened Comment Period.

Filed Date: 9/27/13.

Accession Number: 20130927-5144.

Comments Due: 5 p.m. ET 10/9/13.

Docket Numbers: RP13-1363-000.

Applicants: Transcontinental Gas Pipe Line Company.

Description: Non-Conforming Agreements NESL to be effective 11/1/2013.

Filed Date: 9/27/13.

Accession Number: 20130927-5180.

Comments Due: 5 p.m. ET 10/9/13.

Docket Numbers: RP13-1364-000.

Applicants: Tallgrass Interstate Gas Transmission, L.

Description: Neg Rate 2013-09-27 NorthWestern Energy FT and NNS to be effective 10/1/2013.

Filed Date: 9/27/13.

Accession Number: 20130927-5181.

Comments Due: 5 p.m. ET 10/9/13.

Docket Numbers: RP13-1365-000.

Applicants: Equitrans, L.P.

Description: Negotiated Rate Service Agreements—DFS and Hayden Harper to be effective 10/1/2013.

Filed Date: 9/30/13.

Accession Number: 20130930-5048.

Comments Due: 5 p.m. ET 10/15/13.

Docket Numbers: RP13-1366-000.

Applicants: ANR Pipeline Company.

Description: Marshfield Reduction Project Final to be effective 11/1/2013.

Filed Date: 9/30/13.

Accession Number: 20130930-5054.

Comments Due: 5 p.m. ET 10/15/13.

Docket Numbers: RP13-1367-000.

Applicants: Great Lakes Gas Transmission Limited Par.

Description: Petition of Great Lakes Gas Transmission, LP for Approval of Settlement and Request for Shortened Comment Period.

Filed Date: 9/27/13.

Accession Number: 20130927-5224.

Comments Due: 5 p.m. ET 10/14/13.

Docket Numbers: RP13-1368-000.

Applicants: Trunkline Gas Company, LLC.

Description: Title Page—Housekeeping to be effective 11/1/2013.

Filed Date: 9/30/13.

Accession Number: 20130930-5066.

Comments Due: 5 p.m. ET 10/15/13.

Docket Numbers: RP13-1369-000.

Applicants: Trunkline Gas Company, LLC.

Description: Title Page—Housekeeping to be effective 11/1/2013.

Filed Date: 9/30/13.

Accession Number: 20130930-5076.

Comments Due: 5 p.m. ET 10/15/13.

Docket Numbers: RP13-1370-000.

Applicants: Florida Gas Transmission Company, LLC.

Description: Exhibit B Amendment—Riviera West to be effective 10/1/2013.

Filed Date: 9/30/13.

Accession Number: 20130930-5081.

Comments Due: 5 p.m. ET 10/15/13.

Docket Numbers: RP13-1371-000.

Applicants: Eastern Shore Natural Gas Company.

Description: Eastern Shore Natural Gas Company submits tariff filing per 154.203: Compliance with Order in Docket No. CP12-461-000 to be effective 9/30/2013.

Filed Date: 9/30/13.

Accession Number: 20130930-5107.

Comments Due: 5 p.m. ET 10/15/13.

Docket Numbers: RP13-1372-000.

Applicants: Alliance Pipeline L.P.

Description: Alliance Pipeline L.P. submits tariff filing per 154.204: October 1-31, 2013 Auction to be effective 10/1/2013.

Filed Date: 9/30/13.

Accession Number: 20130930-5108.

Comments Due: 5 p.m. ET 10/15/13.

Docket Numbers: RP13-1373-000.

Applicants: Cheniere Creole Trail Pipeline, L.P.

Description: Cheniere Creole Trail Pipeline, L.P. submits tariff filing per 154.402: CCTPL Transportation Retainage Adjustment to be effective 11/1/2013.

Filed Date: 9/30/13.

Accession Number: 20130930-5115.

Comments Due: 5 p.m. ET 10/15/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR13-62-001.

Applicants: Columbia Gas of Maryland, Inc.

Description: Revised Baseline Statement of Operating Conditions to be effective 8/30/2013.

Filed Date: 9/27/13.

Accession Number: 20130927-5098.

Comments Due: 5 p.m. ET 10/9/13.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2013.
Nathaniel J. Davis, Sr.,
Deputy Secretary.

[FR Doc. 2013-24422 Filed 10-9-13; 8:45 am]

BILLING CODE 6717-01-P